DEPARTMENT OF TRANSPORTATION

Federal Transit Administration

Early Scoping Notice

AGENCY: Federal Transit Administration, DOT.

ACTION: Early scoping for a MAX tunnel project in metropolitan Portland, Oregon.

SUMMARY: The Federal Transit Administration (FTA) and Metro (the designated Metropolitan Planning Organization, or MPO, for the Portland region) issue this early scoping notice for a MAX tunnel project (Project). Metro is exploring ways to improve transit time and reliability to and through the Portland Central City. The purpose of this early scoping notice is to advise other agencies and the public of the intent to further study the feasibility of a tunnel under downtown Portland. The Project would improve regional transit service by addressing current and projected travel time, reliability, and resiliency issues for trips to and across Portland's downtown core. Early scoping for the feasibility study is occurring within the context of the Council on Environmental Quality's regulations for complying with the National Environmental Policy Act (NEPA).

DATES:

MAX Tunnel Study Open House: 5 to 7 p.m., July 22, 2019, Metro Regional Center, 600 NE Grand Avenue, Portland, OR 97232, Council Chamber.

Additional Opportunity to Comment: An online survey at https://www.oregonmetro.gov/public-projects/max-tunnel-study will be open until 12:00 a.m. on August 12, 2019. Paper copies of the survey are available at reception at Metro, 600 NE Grand Avenue, Portland, OR 97232, and at reception at TriMet Administrative Office, 1800 SW 1st Avenue #300, Portland, OR 97201.

ADDRESSES: Written comments on this notice should be submitted by Monday, August 12, 2019, to Investment Areas, Metro, 600 NE Grand Avenue, Portland, OR 97232. Telephone: (503) 813-7535; email: maxtunnel@oregonmetro.gov.

FOR FURTHER INFORMATION CONTACT: Mark Assam, Environmental Protection Specialist, Federal Transit Administration, Region 10, 915 Second Avenue, Room 3142, Seattle, WA 98174. Telephone: (206) 220-4465. Eryn Kehe, Communications Supervisor, Metro, 600 NE Grand Avenue, Portland, OR 97232. Telephone: (503) 797-1881.

SUPPLEMENTARY INFORMATION: This notice invites the public to comment on a statement of the Purpose and Need for a tunnel, the Project study area, potential impacts, and potential alternatives. This notice also invites the public to review and comment on reports previously developed by local planning and transportation agencies, including Metro and the Tri-County Metropolitan Transportation District of Oregon (TriMet), that support the focus to further study a tunnel. Early scoping is intended to identify the most reasonable alternatives to undergo formal scoping and NEPA environmental review. Information about an upcoming public meeting, opportunities to comment, and the Project's Purpose and Need is set forth in the following sections.

Early Scoping

Early scoping is an optional step in the NEPA process that precedes formal scoping. Formal scoping begins when an agency issues a Notice of Intent to prepare an environmental impact statement (EIS). Formal scoping is typically the first opportunity for the public to learn about a proposed project that may receive FTA funding and comment on the scope of the anticipated planning effort. In this case, FTA and Metro are using early scoping to publicize and invite comment on the Project's Purpose and Need, potential alternatives, study area, potential impacts, and prior studies before formally beginning to prepare an EIS.

At the end of early scoping, FTA and Metro will determine what potential alternatives along with tunnel options are available in order to move forward into the formal NEPA process. All reasonable alternatives will be evaluated in terms of the social, economic, and environmental impacts. At this stage, the proposed alternatives would include a No Build Alternative and a tunnel.

Project Background and Purpose and Need

A Purpose and Need is required for projects entering NEPA environmental review. FTA and Metro invite comment on the Project's preliminary Purpose and Need to be used to guide the development and evaluation of potential alternatives.

Background

The Portland Central City is the economic and cultural center of the region, with the largest concentration of people and jobs in Oregon. It is also at the core of the regional transportation system, and its mobility problems and constraints affect local and regional mobility and the regional economy. Slow travel times through the Central City—coupled with frequent delays, reliability issues, and overcrowding—are major problems today. As the region grows, these issues will become even more critical.

Over the next 20 years, the region is expected to grow by 635,000 people and 378,000 jobs, with the Central City absorbing 35,000 people and 32,000 jobs. During this time span, these mobility problems will become even more acute, further affecting regional quality of life and long-term economic vitality.

The Metro 2040 Growth Concept, originally adopted in 1995, is a 50-year plan managing growth for the region. In addition to setting the framework for where growth will be concentrated in the region, it calls for a high-quality transit system as part of the regional multimodal transportation solution. MAX Light Rail is the backbone of the transit system, carrying more than 115,000 daily trips and playing a vital role in serving the growing demand for travel between the Central City and other regional jobs and housing centers defined in the 2040 Growth Concept. All of the region's light rail lines cross through the Central City and must travel through multiple signalized intersections on surface streets. As traffic congestion in this area grows, delays at these intersections are increasing, adversely affecting travel time, reliability, and system capacity.

All of the region's light rail lines also cross the Willamette River on the Steel Bridge, which is also a constraint on the overall system. The Steel Bridge was built in 1912 and is one of the oldest lift bridges in the United States. The bridge can accommodate only a single pair of tracks, and trains must travel at 10 miles per hour, limiting present and future throughput. The bridge is seismically vulnerable and likely would not survive a major earthquake. Its age and condition already require increasing maintenance, and bridge closures and lifts disrupt the entire system. Consideration of options to modify the bridge as alternatives to a tunnel are discussed further in the Preliminary Analysis section.

Purpose

The purpose of the proposed Project is to increase regional mobility and capacity by improving transit travel times and system reliability to and through the Portland Central City, as well as the following:

• Improve mobility between regional centers.

• Increase transit rail capacity and frequency without impacting other surface mobility options.

• Increase transit ridership and transit mode share.

• Create a reliable alternative to cross-town travel on congested roadways.

• Support the increasing transportation demand of key destinations, present and future development, and population and employment growth expected in the Central City and the region.

Need

The Project is needed to accomplish the following:

• Address increasingly unreliable and slow transit trips to and through the Central City.

• Address transit capacity and reliability issues constraining the regional transit system.

• Accommodate peak future light rail transit demands.

• Allow more frequent light rail service on all lines.

• Improve access from households to jobs, education, and social opportunities in and across the Central City and other regional centers.

• Ensure long-term regional mobility for low-income residents and reduce barriers between housing and transportation cost-burdened households and employment opportunities.

• Create the transit infrastructure needed to support future expansions of regional transit service.

• Increase the transit system's resiliency to seismic and environmental changes.

• Provide a more competitive alternative to crosstown auto trips on congested freeways.

Preliminary Analysis

In 2017, TriMet, the Portland region's transit operator, produced the Steel Bridge Transit Improvements Report (SBTI) to assess options to address one of the pinch points in downtown Portland. The report, which evaluated tunnel and bridge options, is available on the Project website (www.oregonmetro.gov/public-projects/max-tunnel-study). FTA and Metro are seeking input on whether continued focus on a tunnel is appropriate.

In 2019, Metro convened staff from local jurisdictions to contemplate long-term solutions to improve mobility to and through the Portland Central City. The group developed the preliminary Purpose and Need, which is presented in the previous sections, and based on the SBTI and additional considerations, identified a downtown tunnel as the only reasonable alternative to meet the Purpose and Need. The study supporting this recommendation is documented in the Central City Transit Capacity Screening Report (https://www.oregonmetro.gov/sites/default/files/2019/06/27/Metro_CCTCA_Screening%20Report_2019-06-25.pdf). FTA and Metro invite comments on the report and its conclusions. Additionally, FTA and Metro invite comments on all planning activities and developments, which include, but are not limited to, the Purpose and Need of the Project, the Project study area, potential impacts, and potential alternatives.

Authority: 40 CFR 1501.7.

Issued on: July 10, 2019.
Linda M. Gehrke,
Regional Administrator.

[FR Doc. 2019-15156 Filed 7-16-19; 8:45 am]

BILLING CODE P